DEPARTMENT OF EDUCATION

Submission for OMB Review; Comment Request

AGENCY: Department of Education.

SUMMARY: The Director, Information Collection Clearance Division, Regulatory Information Management Services, Office of Management invites comments on the submission for OMB review as required by the Paperwork Reduction Act of 1995 (Pub. L. 104-13).

DATES: Interested persons are invited to submit comments on or before September 17, 2010.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov.

SUPPLEMENTARY INFORMATION: Section 3506 of the Paperwork Reduction Act of 1995 (44 U.S.C. Chapter 35) requires that the Office of Management and Budget (OMB) provide interested Federal agencies and the public an early opportunity to comment on information collection requests. The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology.

Dated: August 12, 2010.
Darrin A. King,
Director, Information Collection Clearance Division, Regulatory Information Management Services, Office of Management.

Institute of Education Sciences

Type of Review: Revision.

Title of Collection: FRSS 98: District Survey of Distance Education Courses for Public Elementary and Secondary School Students: 2009-10.

OMB #: 1850-0733.

Agency Form Number(s): N/A.

Frequency of Responses: One time.

Affected Public: State, Local, or Tribal Gov't, State Education Agencies (SEAs) or Local Educational Agencies (LEAs).

Estimated Number of Annual Responses: 3,806.

Estimated Annual Burden Hours: 1,182.

Abstract: The National Center for Education Statistics (NCES) in the U.S. Department of Education (ED) proposes to employ the Fast Response Survey System (FRSS) to conduct a district survey about technology-based distance education for public elementary and secondary school students. Two previous iterations of the district survey Distance Education Courses for Public Elementary and Secondary School Students were conducted by NCES for school years 2002-03 and 2004-05. The proposed survey, for school year 2009-10, is a modified version of the earlier surveys. It will provide nationally representative data on this topic by presenting current information about enrollments in distance education courses in the nation's public elementary and secondary schools, as well as covering tracking and monitoring of student progress in distance education courses, district record-keeping, entities with which districts partner to deliver distance education courses, reasons for having distance education, types of distance education courses, and technologies used to deliver these courses. This survey will provide the only current nationally representative data on this topic.

Requests for copies of the information collection submission for OMB review may be accessed from the RegInfo.gov Web site at http://www.reginfo.gov/public/do/PRAMain or from the Department's Web site at http://edicsweb.ed.gov, by selecting the “Browse Pending Collections” link and by clicking on link number 4379. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title and OMB Control Number of the information collection when making your request.

Comments regarding burden and/or the collection activity requirements should be electronically mailed to ICDocketMgr@ed.gov. Individuals who use a telecommunications device for the deaf (TDD) may call the Federal Information Relay Service (FIRS) at 1-800-877-8339.

[FR Doc. 2010-20441 Filed 8-17-10; 8:45 am]

BILLING CODE 4000-01-P